DEPARTMENT OF ENERGY

Federal Energy Regulatory Commission

Combined Notice of Filings #1

Take notice that the Commission received the following electric rate filings:

Docket Numbers: ER10-1585-019; ER10-1594-019; ER10-1617-019; ER10-1623-007; ER10-1628-019; ER10-1632-021; ER12-60-021; ER16-1148-010; ER16-733-010; ER20-2602-002.

Applicants: Alabama Electric Marketing, LLC, California Electric Marketing, LLC, LQA, LLC, New Mexico Electric Marketing, LLC, Nobles 2 Power Partners, LLC, Tenaska Energía de Mexico, S. de R.L. de, C.V., Tenaska Frontier Partners, Ltd., Tenaska Power Management, LLC, Tenaska Power Services Co., Texas Electric Marketing, LLC.

Description: Triennial Market Power Analysis for Central Region of Alabama Electric Marketing, LLC, et al.

Filed Date: 6/24/21.

Accession Number: 20210624-5192.

Comments Due: 5 p.m. ET 8/23/21.

Docket Numbers: ER10-1901-012.

Applicants: Upper Peninsula Power Company.

Description: Triennial Market Power Analysis for Central Region of Upper Peninsula Power Company.

Filed Date: 6/25/21.

Accession Number: 20210625-5189.

Comments Due: 5 p.m. ET 8/24/21.

Docket Numbers: ER10-2794-033; ER12-1825-031; ER14-2672-018.

Applicants: EDF Trading North America, LLC, EDF Energy Services, LLC, EDF Industrial Power Services (CA), LLC.

Description: Triennial Market Power Analysis for Central Region of EDF Trading North America, LLC, et al.

Filed Date: 6/24/21.

Accession Number: 20210624-5191.

Comments Due: 5 p.m. ET 8/23/21.

Docket Numbers: ER21-1576-001.

Applicants: Southwest Power Pool, Inc.

Description: Tariff Amendment: Deficiency Response in ER21-1576—Tri-State Generation Formula Rate to be effective 6/1/2021.

Filed Date: 6/28/21.

Accession Number: 20210628-5032.

Comments Due: 5 p.m. ET 7/19/21.

Docket Numbers: ER21-2217-000.

Applicants: Lincoln Land Wind, LLC.

Description: Baseline eTariff Filing: Application For Market Based Rate Authority to be effective 8/31/2021.

Filed Date: 6/28/21.

Accession Number: 20210628-5000.

Comments Due: 5 p.m. ET 7/19/21.

Docket Numbers: ER21-2218-000.

Applicants: PJM Interconnection, L.L.C.

Description: § 205(d) Rate Filing: Original ISA, Service Agreement No. 6094; Queue No. AD2-158 to be effective 5/28/2021.

Filed Date: 6/28/21.

Accession Number: 20210628-5004.

Comments Due: 5 p.m. ET 7/19/21.

Docket Numbers: ER21-2219-000.

Applicants: Southwest Power Pool, Inc.

Description: § 205(d) Rate Filing: Revisions to Modify Uninstructed Resource Deviation Exemptions to be effective 10/1/2021.

Filed Date: 6/28/21.

Accession Number: 20210628-5005.

Comments Due: 5 p.m. ET 7/19/21.

Docket Numbers: ER21-2220-000.

Applicants: ISO New England Inc., New England Power Pool Participants Committee.

Description: § 205(d) Rate Filing: ISO-NE & NEPOOL; Rev to Remove App B “Imposition of Sanctions by the ISO” to be effective 8/27/2021.

Filed Date: 6/28/21.

Accession Number: 20210628-5033.

Comments Due: 5 p.m. ET 7/19/21.

Docket Numbers: ER21-2221-000.

Applicants: Southwest Power Pool, Inc.

Description: § 205(d) Rate Filing: 2900R16 KMEA NITSA NOA to be effective 9/1/2021.

Filed Date: 6/28/21.

Accession Number: 20210628-5039.

Comments Due: 5 p.m. ET 7/19/21.

Docket Numbers: ER21-2222-000.

Applicants: Southwest Power Pool, Inc.

Description: § 205(d) Rate Filing: 1276R24 Evergy Metro NITSA NOA to be effective 9/1/2021.

Filed Date: 6/28/21.

Accession Number: 20210628-5040.

Comments Due: 5 p.m. ET 7/19/21.

Docket Numbers: ER21-2223-000.

Applicants: Duke Energy Carolinas, LLC.

Description: § 205(d) Rate Filing: DEC-NCEMC NITSA SA No. 210 to be effective 6/1/2021.

Filed Date: 6/28/21.

Accession Number: 20210628-5041.

Comments Due: 5 p.m. ET 7/19/21.

Docket Numbers: ER21-2224-000.

Applicants: Arizona Public Service Company.

Description: § 205(d) Rate Filing: Rate Schedule No. 305 to be effective 9/1/2021.

Filed Date: 6/28/21.

Accession Number: 20210628-5043.

Comments Due: 5 p.m. ET 7/19/21.

Docket Numbers: ER21-2225-000.

Applicants: Irish Creek Wind, LLC.

Description: Baseline eTariff Filing: Irish Creek Wind, LLC Application for Market-Based Rate Authorization to be effective 8/28/2021.

Filed Date: 6/28/21.

Accession Number: 20210628-5045.

Comments Due: 5 p.m. ET 7/19/21.

Docket Numbers: ER21-2226-000.

Applicants: Arizona Public Service Company.

Description: § 205(d) Rate Filing: Service Agreement Nos. 218 and 335 to be effective 7/1/2021.

Filed Date: 6/28/21.

Accession Number: 20210628-5046.

Comments Due: 5 p.m. ET 7/19/21.

Docket Numbers: ER21-2227-000.

Applicants: Southwest Power Pool, Inc.

Description: § 205(d) Rate Filing: 2198R31 Kansas Power Pool NITSA NOA to be effective 9/1/2021.

Filed Date: 6/28/21.

Accession Number: 20210628-5049.

Comments Due: 5 p.m. ET 7/19/21.

Docket Numbers: ER21-2228-000.

Applicants: New York State Electric & Gas Corporation.

Description: § 205(d) Rate Filing: NYSEG-NYPA Attachment C—O&M Annual Update to be effective 9/1/2021.

Filed Date: 6/28/21.

Accession Number: 20210628-5054.

Comments Due: 5 p.m. ET 7/19/21.

Docket Numbers: ER21-2229-000.

Applicants: Duke Energy Carolinas, LLC.

Description: Tariff Cancellation: DEC-FPL Notice of Cancellation of Service Agreements Nos. 42 and 165 to be effective 8/28/2021.

Filed Date: 6/28/21.

Accession Number: 20210628-5056.

Comments Due: 5 p.m. ET 7/19/21.

Docket Numbers: ER21-2230-000.

Applicants: Southwest Power Pool, Inc.

Description: § 205(d) Rate Filing: 2415R15 Kansas Municipal Energy Agency NITSA and NOA to be effective 9/1/2021.

Filed Date: 6/28/21.

Accession Number: 20210628-5070.

Comments Due: 5 p.m. ET 7/19/21.

Docket Numbers: ER21-2231-000.

Applicants: Southwest Power Pool, Inc.

Description: § 205(d) Rate Filing: 2562R10 Kansas Municipal Energy Agency NITSA and NOA to be effective 9/1/2021.

Filed Date: 6/28/21.

Accession Number: 20210628-5082.

Comments Due: 5 p.m. ET 7/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2021.
Debbie-Anne A. Reese,
Deputy Secretary.

[FR Doc. 2021-14241 Filed 7-1-21; 8:45 am]

BILLING CODE 6717-01-P